DEPARTMENT OF HEALTH AND HUMAN SERVICES

National Institutes of Health

National Institute on Alcohol Abuse and Alcoholism; Amended Notice of Meeting

Notice is hereby given of a change in the meeting of the Epidemiology, Prevention and Behavior Research Review Subcommittee, June 8, 2020, 8:30 a.m. to June 8, 2020, 5:00 p.m., National Institutes of Health, National Institute on Alcohol Abuse and Alcoholism, 6700B Rockledge Drive, Bethesda, MD 20817 which was published in the Federal Register on March 27, 2020, 85 FR 17336.

This notice is being amended to change the meeting location from the National Institutes of Health; National Institute on Alcohol Abuse and Alcoholism; 6700B Rockledge Drive, Bethesda, MD 20892 to a telephone conference call. The meeting is closed to the public.

Dated: April 24, 2020.
Ronald J. Livingston, Jr.,
Program Analyst, Office of Federal Advisory Committee Policy.

[FR Doc. 2020-09118 Filed 4-29-20; 8:45 am]

BILLING CODE 4140-01-P